DEPARTMENT OF COMMERCE

National Oceanic and Atmospheric Administration

50 CFR Part 648

[Docket No. 160301164-6694-02]

RIN 0648-XF146

Fisheries of the Northeastern United States; Northeast Skate Complex; Adjustment to the Skate Wing and Skate Bait Inseason Possession Limits

AGENCY: National Marine Fisheries Service (NMFS), National Oceanic and Atmospheric Administration (NOAA), Commerce.

ACTION: Temporary rule; inseason adjustments.

SUMMARY: We announce the reduction of the commercial per-trip possession limits for the skate wing and skate bait fisheries for the remainder of the 2016 fishing year, through April 30, 2017. These possession limit reductions are necessary to prevent the seasonal skate wing and skate bait commercial quotas from being exceeded and still allow an opportunity for harvesting the annual total allowable landings. This announcement informs the public that the skate wing and skate bait possession limits are reduced.

DATES: Effective January 30, 2017, through April 30, 2017.

FOR FURTHER INFORMATION CONTACT: Reid Lichwell, Fishery Management Specialist, 978-281-9112.

SUPPLEMENTARY INFORMATION:

Background

The skate wing and skate bait fisheries are managed primarily through the Northeast Skate Complex Fishery Management Plan. The regulations describing the process to adjust inseason commercial possession limits of skate wings and skate bait are described at 50 CFR 648.322(b) and (d). The current skate wing possession limit is 9,307 lb (4,222 kg) whole weight, 4,100 lb (1,860 kg) skate wings, and the current skate bait possession limit is 25,000 lb (11,340 kg). When the NMFS Greater Atlantic Regional Administrator projects seasonal skate wing and skate bait landings to reach 85 and 90 percent, respectively, of the annual total allowable landings (TAL), the Regional Administrator may reduce the skate wing possession limit and is required to reduce the skate bait possession limit for the remainder of the season, unless the reductions would be expected to prevent attainment of the annual TAL. The skate wing possession limit may be reduced to the incidental catch limit of 500 lb (227 kg) skate wings; the skate bait possession limit must be reduced to the 1,135-lb (515-kg) whole-weight equivalent of the skate wing possession limit. We anticipate that implementing these inseason adjustments will allow an opportunity for both fisheries to harvest the annual TAL while reducing the possibility of exceeding it.

Inseason Action

Based on commercial landings data reported through December 24, 2016, we project the skate wing and skate bait fisheries to reach 85 and 90 percent of their annual TAL, respectively, on January 18, 2017. The annual TAL for both the skate wing and skate bait fisheries is divided into seasonal quota periods in which landings are applied to each quota to evaluate the need for possession limit reductions. We are currently in skate wing season 2 (September 1, 2016, through April 30, 2017) and skate bait season 3 (November 1, 2016, through April 30, 2017). These are the final skate seasons of the 2016 fishing year, providing us with cumulative annual landings data which allow us to calculate when the annual TAL would be harvested. We have evaluated catch data to project when the possession limit reduction triggers are projected to be reached. Catch projections indicate that retaining the current possession limits would result in the harvest of 110 percent of the skate wing annual TAL and 107 percent of the skate bait annual TAL. We anticipate that implementing these inseason adjustments will allow an opportunity for both fisheries to harvest the annual TAL while significantly reducing the possibility of exceeding it.

Therefore, consistent with § 648.322(b) and (d), we are reducing the skate wing possession limit from 4,100 lb (1,860 kg) of skate wings [9,307 lb (4,222 kg) whole weight] to 500 lb (227 kg) of skate wings [1,135 lb (515 kg) whole weight] per trip, and the skate bait possession limit is reduced from 25,000 lb (11,340 kg) to 1,135 lb (515 kg) of whole weight skate per trip. Beginning January 30, 2017, no person may possess on board or land more than 500 lb (227 kg) of skate wings [1,135 lb (515 kg) whole weight] per trip for the remainder of the 2016 fishing year. On May 1, 2017, the commercial skate wing possession limit will increase to the skate wing season 1 (May 1, 2017, to August 31, 2017) possession limit of 2,600 lb (1,179 kg) of skate wings [5,902 lb (2,677 kg) whole weight] per trip, and the commercial skate bait possession limit will increase to 25,000 lb (11,340 kg) per trip.

Classification

This action is taken under 50 CFR part 648 and is exempt from review under Executive Order 12866.

Authority: 16 U.S.C. 1801 et seq.

Dated: January 10, 2017.
Emily H. Menashes,
Acting Director, Office of Sustainable Fisheries, National Marine Fisheries Service.

[FR Doc. 2017-00786 Filed 1-24-17; 8:45 am]

BILLING CODE 3510-22-P